DEPARTMENT OF HEALTH AND HUMAN SERVICES

Administration for Children and Families

Privacy Act of 1974, as Amended; Computer Matching Program

AGENCY: Office of Child Support Enforcement (OCSE), ACF, DHHS.

ACTION: Correction.

SUMMARY: This document corrects the two notices that were published in the Federal Register on Monday, May 2, 2005, Vol. 70, No. 83, Pages 22663 and 22664. It corrects the information on page 22663 under Notice of Computer Matching Program; the information beginning with “A. Participating Agencies and ending with E. Inclusive Dates of the Matching Program” should be placed on page 22664 under Notice of Computer Matching Program and the information on page 22664 under Notice of Computer Matching Program beginning with “A. Participating Agencies and ending with E. Inclusive Dates of the Matching Program” should be placed on page 22663 under Notice of Computer Matching Program.

On page 22664 under Notice of Computer Matching Program. A. Participating Agencies please correct the transposed letters from “OSCE” to read “OCSE.” This transposition occurred at the Federal Register.

Dated: May 2, 2005.
David H. Siegel,
Acting Commissioner, Office of Child Support Enforcement.

[FR Doc. 05-9071 Filed 5-5-05; 8:45 am]

BILLING CODE 4184-01-M